DEPARTMENT OF THE INTERIOR

Bureau of Land Management

[WY-923-1310-FI; WYW144811]

Wyoming: Notice of Proposed Reinstatement of Terminated Oil and Gas Lease

AGENCY: Bureau of Land Management, Interior.

ACTION: Notice of proposed reinstatement of terminated oil and gas lease.

SUMMARY: Under the provisions of 30 U.S.C. 188(d) and (e), and 43 CFR 3108.2-3(a) and (b)(2), the Bureau of Land Management (BLM) received a petition for reinstatement from Anadarko Petroleum Corporation and Lance Oil & Gas Company for noncompetitive oil and gas lease WYW144811 for land in Johnson County, Wyoming. The petition was filed on time and was accompanied by all the rentals due since the date the lease terminated under the law.

FOR FURTHER INFORMATION CONTACT: Bureau of Land Management, Carmen E. Lovett, Land Law Examiner, at (307) 775-6160.

SUPPLEMENTARY INFORMATION: The lessees have agreed to the amended lease terms for rentals and royalties at rates of $10.00 per acre or fraction thereof, per year and 18⅔ percent, respectively. The lessees have paid the required $500 administrative fee and $163 to reimburse the Department for the cost of this Federal Register notice. The lessees have met all the requirements for reinstatement of the lease as set out in sections 31(d) and (e) of the Mineral Lands Leasing Act of 1920 (30 U.S.C. 188), and the Bureau of Land Management is proposing to reinstate lease WYW144811 effective April 1, 2009, under the original terms and conditions of the lease and the increased rental and royalty rates cited above. BLM has not issued a valid lease affecting the lands.

Carmen E. Lovett,
Land Law Examiner.

[FR Doc. E9-20322 Filed 8-21-09; 8:45 am]

BILLING CODE 4310-22-P